FEDERAL RESERVE SYSTEM

Notice of Proposals to Engage in Permissible Nonbanking Activities or to Acquire Companies that are Engaged in Permissible Nonbanking Activities; Correction

This notice corrects a notice (FR Doc. 05-13211) published on page 38931 of the issue for Wednesday, July 6, 2005.

Under the Federal Reserve Bank of New York heading, the entry for Fubon Financial Holding Company, Ltd., Taipei, Taiwan, is revised to read as follows:

A. Federal Reserve Bank of New York (Jay Bernstein, Bank Supervision Officer) 33 Liberty Street, New York, New York 10045-0001:

1. Fubon Financial Holding Co., Ltd., Taipei, Taiwan; to engage in limited securities activities through Fubon Securities USA LLC, Pasadena, California, and Fubon Asset Management USA, LLC, Arcadia, California, pursuant to sections 225.28(b)(6), (b)(7)(i), (b)(7)(ii), (b)(7)(iii), (b)(7)(v), and (b)(8)(i) of Regulation Y.

Comments on this application must be received by July 21, 2005.

Board of Governors of the Federal Reserve System, July 6, 2005.
Robert deV. Frierson,
Deputy Secretary of the Board.

[FR Doc. 05-13624 Filed 7-11-05; 8:45 am]

BILLING CODE 6210-01-S